DEPARTMENT OF AGRICULTURE
Forest Service
Alpine County, CA, Resource Advisory Committee (RAC)

AGENCY:
Forest Service, USDA.

ACTION:
Notice of meeting.

SUMMARY:
Pursuant to the authorities in the Federal Advisory Committees Act (Pub. L. 92-463) and under the Secure Rural Schools and Community Self-Determination Act of 2000 (Pub. L. 106-393) the Alpine County Resource Advisory Committee (RAC) will meet on Monday, February 2, 2004, at 18:00 at the Diamond Valley School for business meetings. The purpose of the meeting is to discuss issues relating to implementing the Secure Rural Schools and Community Self-Determination Act of 2000 (Payment to States) and expenditure of Title II funds. The meetings are open to the public.

DATES:
Monday, February 2, 2004, at 18:00 hours.

ADDRESSES:
The meeting will be held at the Diamond Valley School (physical address, room and time). Send written comments to Franklin Pemberton, Alpine County RAC coordinator, c/o USDA Forest Service, Humboldt-Toiyabe N.F., Carson Ranger District 1536 So. Carson Street, Carson City, NV 89701.

FOR FURTHER INFORMATION CONTACT:

Alpine Co. RAC Coordinator, Franklin Pemberton at (775) 884-8150; or Gary Schiff, Carson District Ranger and Designated Federal Officer, at (775) 884-8100, or electronically to fpemberton@fs.fed.us.

SUPPLEMENTARY INFORMATION:
The Meeting is open to the public. Council discussion is limited to Forest Service staff and Council members. However, persons who wish to bring urban and community forestry matters to the attention of the council may file written statements with the Council staff before and after the meeting.

Dated: January 22, 2004.
Larry Randall,
Acting Carson District Ranger.

[FR Doc. 04-1904 Filed 1-29-04; 8:45 am]
BILLING CODE 3410-11-M